DEPARTMENT OF LABOR

Employment and Training Administration

[TA-W 56,173]

Durable Ralph, Inc.; Harrison, Arkansas; Notice of Termination of Investigation

Pursuant to section 221 of the Trade Act of 1974, as amended, an investigation was initiated on November 16, 2004 in response to a petition filed by a State agency representative on behalf of workers at Durable Ralph, Inc., Harrison, Arkansas.

The petitioner has requested that the petition be withdrawn. Consequently, the investigation has been terminated.

Signed at Washington, DC this 21st day of December 2004.
Richard Church,
Certifying Officer, Division of Trade Adjustment Assistance.

[FR Doc. E5-266 Filed 1-25-05; 8:45 am]

BILLING CODE 4510-30-P